DEPARTMENT OF AGRICULTURE

Forest Service

Payette National Forest, ID; Revision of Travel Plan

AGENCY: USDA, Forest Service.

ACTION: Notice of intent to prepare an environmental impact statement.

SUMMARY: The Forest Service gives notice of the intent to prepare an environmental impact statement (EIS) to revise the Payette National Forest Travel Plan. The proposed action would designate a site-specific transportation system and prohibit indiscriminant cross-country traffic. The EIS will analyze the effects of the proposed action and alternatives. The Payette National Forest invites written comments and suggestions on the scope of analysis and the issues to address. The agency gives notice of the National Environmental Policy Act (NEPA) analysis and decision-making process on the proposal so interested and affected members of the public may participate and contribute to the final decision.

DATES: Comments need to be received in writing by December 7, 2004.

ADDRESSES: Send written comments to: Travel Plan Revision, Forest Supervisor's Office, Payette National Forest, P.O. Box 1026, McCall, ID 83638, fax (208) 634-0744.

FOR FURTHER INFORMATION CONTACT: Questions about the proposed project and scope of analysis should be directed to Ana Egnew, Land Management Planner, Payette National Forest, P.O. Box 1026, McCall, ID 83638, or by phone to (208) 634-0624.

SUPPLEMENTARY INFORMATION:

Purpose and Need

The need for revision of the Travel Plan was identified in the 2003 Payette National Forest Land and Resource Plan (Forest Plan) (p. III-63), and in the Forest Service proposed rule (for Travel Management (July 15, 2004); specifically, to establish a system of roads and trails and areas designated for motor vehicle use and to prohibit the use of motor vehicles off the designated system. The purpose of the revision is to (1) meet Forest Plan and national direction, (2) designate a reasonable system of roads, trails, and over-snow use areas, (3) balance management considerations with recreation demands, (4) reduce impacts to Forest resources, and (5) reduce recreation user conflicts. The analysis will be conducted across the 13 Management Areas that comprise the 1,583,681 acres of the Payette National Forest outside designated Wilderness.

The Proposed Action

The proposed action would revise the current Travel Plan by designating a site-specific transportation system for snow-free and over-snow travel. Motorized snow-free travel off the transportation system would be prohibited on 1,583,681 acres (an increase of 544,863 acres).

The transportation system for snow-free travel would include:

• 1,505 miles of open roads (reduction of 14 miles)

• 612 miles of seasonally open roads (reduction of 28 miles)

• 76 miles of trail open to All-Terrain Vehicles (ATVs) (increase of 22 miles)

• 546 miles of trail open to 2-wheel motorized use (reduction of 98 miles)

• 621 miles of trail open to non-motorized travel (increase of 87 miles)

• 2.7 miles of undetermined road added to the system.

The transportation system for over-snow travel would include:

• 183 miles of open road (unchanged)

• 1,106,480 acres open to motorized activities (reduction of 17,400 acres)

• 477,801 acres reserved for non-motorized over-snow activities

Responsible Official

The responsible official is the Forest Supervisor of the Payette National Forest.

Decision To Be Made

The decision to be made is: whether to adopt the proposed revision to the Travel Plan, in whole, or in part, or to adopt another alternative, and with what mitigation measures and management requirements.

Issues

Preliminary issues identified by the Forest Service interdisciplinary team include effects to: water quality and wetlands; threatened, endangered, sensitive, and management indicator fish species and habitat; threatened, endangered, sensitive, and management indicator wildlife species and habitat; rare plants; and recreation opportunities.

Range of Alternatives

A range of reasonable alternatives will be considered. The no-action alternative will serve as a baseline for comparison of alternatives. The proposed action will be considered along with additional alternatives developed that meet the purpose and need and address significant issues identified during scoping. Alternatives may allow different locations, types, and seasons of travel activities.

Public Participation

Public participation will be important at several points during the analysis. This notice of intent initiates the scoping process. The scoping process will identify issues to be analyzed in detail and lead to the development of alternatives to the proposal.

The Forest Service is seeking information and comments from other Federal, State, and local agencies; Tribal governments; organizations; and individuals who may be interested in or affected by the proposed action. Comments received in response to this notice, including the names and addresses of those who comment, will be part of the project record and available for public review.

Public meetings are scheduled during the 60-day scoping period and following issuance of the draft EIS. The public scoping meetings are: September 30, in Riggins, Salmon River High School; October 6 in Weiser, Vendome Conference Center; October 12 in McCall, Forest Supervisor's Office; October 14 in Council, Adams County Fairground Exhibit Hall; and October 21 in New Meadows, New Meadows Ranger District Office. All meetings are 4:30 p.m. to 7 p.m.

The second major opportunity for public input is with the draft EIS. The draft EIS will be filed with the Environmental Protection Agency (EPA) and is anticipated to be available for public review during the summer of 2005. The comment period on the draft EIS will be 60 days. It is important that those interested in travel management on the Payette National Forest participate at that time.

The Forest Service believes it is important to give reviewers notice of several court rulings related to public participation in the environmental review process. First, reviewers of draft EISs must structure their participation in the environmental review of the proposal so that it is meaningful and alerts an agency to the reviewer's position and contentions (Vermont Yankee Nuclear Power Corp., v. NRDC, 435 U.S. 519, 553 (1978)). Also, environmental objections that could be raised at the draft EIS stage, but that are not raised until completion of the final EIS, may be waived or dismissed by the courts (City of Angoon v. Hodel, 803 F .2d 1016, 1002 (9th Cir. 1986), and Wisconsin Heritages, Inc., v. Harris, 490 F. Supp. 1334, 1338 (E.D. Wis. 1980)). Because of these court rulings, it is important that those interested in this proposed action participate by the close of the 60-day comment period so substantive comments and objections are made available to the Forest Service at a time when it can meaningfully consider them and respond to them in the final EIS.

To assist the Forest Service in identifying and considering issues raised by the proposed action, comments on the draft EIS should be as specific as possible. It is also helpful if comments refer to specific pages or chapters of the draft EIS. Comments may also address the adequacy of the draft EIS or the merits of the alternatives formulated and discussed in the statement. (Reviewers may wish to refer to the Council on Environmental Quality Regulations for implementing the procedural provisions of the National Environmental Policy Act 40 CFR 1503.3 in addressing these points.)

After the 60-day comment period ends on the draft EIS, the Forest Service will analyze comments received and address them in the final EIS. The final EIS is scheduled to be released in December 2005. In the final EIS, the Forest Service will respond to substantive comments received during the comment period. The Responsible Official (Forest Supervisor, Payette National Forest) will document the decision and rationale in a Record of Decision (ROD). The decision will be subject to review under Forest Service appeal regulations at 36 CFR part 215.

Dated: September 24, 2004.
Mark J. Madrid,
Forest Supervisor.

[FR Doc. 04-22190 Filed 10-1-04; 8:45 am]

BILLING CODE 3410-11—M